FEDERAL COMMUNICATIONS COMMISSION

47 CFR Part 73

[DA 02-2390, Docket No. 02-179, RM-10199]

Radio Broadcasting Services; Port St. Joe, FL

AGENCY: Federal Communications Commission.

ACTION: Proposed rule, dismissal.

SUMMARY: This document dismisses a pending petition for rulemaking to add an FM allotment in Port St. Joe, Florida. The Commission had requested comment on a petition filed by Cecil P. Staton, proposing the allotment of Channel 242A at Port St. Joe, Florida. Port St. Joe, Florida, 66 FR 44586, August 24, 2001. The petitioner filed comments in support of the proposal. No other comments were received. On June 16, 2002, petitioner requested that the Commission dismiss the pending petition. This document grants that request, dismissing the petition and terminating the proceeding.

ADDRESSES: Federal Communications Commission, Washington, DC 20554. The address of counsel for the petitioner is as follows: Timothy K. Brady, P.O. Box 71309, Newnan, GA 30271-1309.

FOR FURTHER INFORMATION CONTACT: Deborah A. Dupont, Media Bureau (202) 418-7072.

SUPPLEMENTARY INFORMATION: This is a synopsis of the Commission's Report and Order, MM Docket No. 01-179, adopted September 18, 2002, and released September 27, 2002. The full text of this Commission decision is available for inspection and copying during normal business hours in the FCC Reference Information Center (Room CY-A257), 445 12th Street, SW., Washington, DC The complete text of this decision may also be purchased from the Commission's copy contractor, Qualex International, Portals II, 445 12th Street, SW., Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

Federal Communications Commission.
John A. Karousos,
Assistant Chief, Audio Division, Media Bureau.

[FR Doc. 02-26224 Filed 10-25-02; 8:45 am]

BILLING CODE 6712-01-P